DEPARTMENT OF TRANSPORTATION

Federal Aviation Administration

Approval of Noise Compatibility Program; Centennial Airport, Englewood, CO; FAA

AGENCY: Federal Aviation Administration, DOT.

ACTION: Notice.

SUMMARY: The Federal Aviation Administration (FAA) announces its findings on the noise compatibility program submitted by the Arapahoe County Public Airport Authority for the Centennial Airport under the provisions of Title I of the Aviation Safety and Noise Abatement Act of 1979 (Pub. L. 96-193) and 14 CFR Part 150, Airport Noise Compatibility Planning. These findings are made in recognition of the description of federal and non-federal responsibilities in Senate Report No. 96-52 (1980). On August 12, 2008, the Airports Division Manager approved the Centennial Airport noise compatibility program. Of the twelve proposed program elements, FAA approved eight and reserved approval of another two measures pending further study. The remaining two measures were disapproved.

DATES: The effective date of the FANs approval of the Centennial Airport noise compatibility program is August 12, 2008.

FOR FURTHER INFORMATION CONTACT: Linda Bruce, Federal Aviation Administration, Denver Airports District Office, 26805 E. 68th Avenue, Suite 224, Denver, Colorado 80249-6361, Telephone (303) 342-1264. Documents reflecting this FAA action may be obtained from Ms. Bruce or on the Internet at http://www.faa.gov/airports_airtraffic/airports/regional guidance/northwest_ mountain/environmental/.

SUPPLEMENTARY INFORMATION: This notice announces that the FAA has given its overall approval to the Centennial Airport noise compatibility program, effective August 12, 2008. Under Section 104(a) of the Aviation Safety and Noise Abatement Act of 1979 (hereinafter the Act), an airport operator who has previously submitted a noise exposure map may submit to the FAA a noise compatibility program which sets forth the measures taken or proposed by the airport operator for the reduction of existing non-compatible land uses and prevention of additional non-compatible land uses within the area covered by the noise exposure maps.

The Act requires such programs to be developed in consultation with interested and affected parties including local communities, government agencies, airport users, and FAA personnel.

Each airport noise compatibility program developed in accordance with 14 CFR Part 150 is a local program, not a federal program. The FAA does not substitute its judgment for that of the airport sponsor with respect to which measures should be recommended for action. The FAA's approval or disapproval of Part 150 program recommendations is measured according to the standards expressed in Part 150 and the Act, and is limited to the following determinations:

(a) The noise compatibility program was developed in accordance with the provisions and procedures of FAR Part 150;

(b) Program measures are reasonably consistent with achieving the goals of reducing existing non-compatible land uses around the airport and preventing the introduction of additional noncompatible land uses;

(c) Program measures would not create an undue burden on interstate or foreign commerce, unjustly discriminate against types or classes of aeronautical uses, violate the terms of airport grant agreements, or intrude into areas preempted by the federal government; and

(d) Program measures relating to the use of flight procedures can be implemented within the period covered by the program without derogating safety, adversely affecting the efficient use and management of the navigable airspace and air traffic control systems, or adversely affecting other powers and responsibilities of the Administrator as prescribed by law.

Specific limitations with respect to FAA's approval of an airport noise compatibility program are delineated in 14 CFR Part 150, Section 150.5. Approval is not a determination concerning the acceptability of land uses under Federal, state, or local law.

Approval does not by itself constitute a FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA under the Airport and Airway Improvement Act of 1982. Where Federal funding is sought, the airport sponsor must submit requests for project grants to the FAA Denver Airports District Office in Denver, Colorado.

The Centennial Airport study contains a proposed noise compatibility program comprised of actions designed for implementation by airport management and adjacent jurisdictions from the date of study completion to beyond the year 2012. The Arapahoe County Public Airport Authority, Englewood, CO, requested that the FAA evaluate and approve this material as a noise compatibility program for the Centennial Airport, as described in Section 104(b) of the Act. The FAA began its review of the program on February 22, 2008, and was required by a provision of the Act to approve or disapprove the program within 180 days (other than the use of new flight procedures for noise control). Failure to approve or disapprove such a program within the 180-day period shall be deemed to be an approval of such a program.

The submitted program contained 12 proposed actions to address noise on and off the airport. The FAA completed its review and determined that the overall program complied with procedural and substantive requirements of the Act and Part 150. The overall program, therefore, was approved by FAA effective August 12, 2008. Outright approval was granted for eight of the specific program elements. One of these elements proposes the ban of Stage I aircraft from operating at Centennial Airport. Since there is no Federal preemption to banning such aircraft, FAA approved this element. Two other elements proposed involve voluntary measures that the airport sponsor can encourage pilots to use to help minimize aircraft noise.

The only land use planning element proposed by the airport sponsor was approved by FAA. This element involves the airport authority working with the local municipalities to amend zoning requirements, comprehensive plans and development regulations to minimize new, non-compatible land uses near the airport and to minimize the impact on airspace surrounding the airport, including 14 CFR Part 77 imaginary surfaces.

The remaining approved elements involve program management and are intended to assist in the development and operations of a noise abatement office and noise monitoring efforts. These measures include the installation of permanent noise monitoring system to monitor noise levels and compliance with noise abatement measures and the use of a public advisory committee to monitor programs implemented as a result on the adoption of the NCP, including the Fly Quiet Program guidelines and the Noise Monitoring Program.

The airport sponsor proposed three changes to flight procedures. One of these measures, a change to nighttime flight procedures for jets departing to the north, will require further safety and environmental analysis. The other two programs elements FAA disapproved as they involve proposed changes to flight paths that FAA Air Traffic Control determined would create numerous adverse impacts to safety and efficiency of air traffic control operations. These program elements propose testing 24-hour flight tracks between 350 and 010 degree headings and implementing a 170 degree departure heading to 4 DME or 8,000 MSL (+/−20 degrees).

FAA disapproved the remaining program element, the proposed ban of Stage 2 aircraft under 75,000 lbs. from operating at Centennial Airport at nighttime, pending further study. Per the requirements of 14 CFR Part 16, this measure requires further study to determine the impact on the national airspace system and air commerce.

FAA's determinations are set forth in detail in a Record of Approval endorsed by the Airports Division Manager on August 12, 2008. The Record of Approval, as well as other evaluation materials and the documents comprising the submittal, are available for review at the FAA office and Internet site listed above and at the administrative offices of the Arapahoe County Public Airport Authority, Englewood, CO.

Issued in Renton, Washington on August 12, 2008.
Donna Taylor,
Manager, Airports Division, FAA Northwest Mountain Region.

[FR Doc. E8-19278 Filed 8-20-08; 8:45 am]

BILLING CODE 4910-13-M